FEDERAL COMMUNICATIONS COMMISSION

47 CFR Parts 32 and 64

[CC Docket No. 99-253; FCC 00-78]

Comprehensive Review of the Accounting Requirements and ARMIS Reporting Requirements for Incumbent Local Exchange Carrier: Phase 1

AGENCY: Federal Communications Commission.

ACTION: Final rule; announcement of effective date.

SUMMARY: This document announces the effective date of the rules and information collections of the Comprehensive Review of the Accounting Requirements and ARMIS Reporting Requirements for Incumbent Local Exchange Carrier: Phase 1 Report and Order adopted March 2, 2000.

DATES: Effective September 28, 2000.

FOR FURTHER INFORMATION CONTACT: JoAnn Lucanik, Accounting Safeguards Division, Common Carrier Bureau, at (202) 418-0873 or Mika Savir, Accounting Safeguards Division, Common Carrier Bureau, at (202) 418-0384.

SUPPLEMENTARY INFORMATION: On March 2, 2000, the Commission adopted the Comprehensive Review of the Accounting Requirements and ARMIS Reporting Requirements for Incumbent Local Exchange Carrier: Phase 1 Report and Order, 65 FR 16328 (March 28, 2000) in this Report and Order the Commission eliminates the expense matrix filing requirement; provides large ILECs the option to obtain a biennial attestation engagement to satisfy their CAM audit obligation; establishes a $500,000 de minimis exception to the affiliate transactions fair market value estimate requirement; eliminates the 15-day pre-filing requirement for cost pool and time reporting procedures changes; eliminates the notification requirement for temporary or experimental accounts; eliminates the notification requirement for extraordinary items, contingent liabilities, and material prior period adjustments; eliminates the reclassification requirements for property in Account 2002; and eliminates the reclassification requirements for property in Account 2003. The Commission substantially streamlines the ARMIS 43-02 USOA Report and significantly reduced the reporting requirements for carriers. In 65 FR 16328 (March 28, 2000) The Commission stated that the Report and Order contained information collections that had not been approved by the Office of Management and Budget (OMB). OMB approved the information collections (see OMB numbers 3060-0470 approved May 31, 2000; 3060-0370, 3060-0395, and 3060-0734 approved June 19, 2000; and 3060-0384 approved September 1, 2000). In 65 FR 16328 (March 28, 2000) we also stated that the Commission would publish a document in the Federal Register announcing the effective date of the rules. This publication satisfies our statement that the Commission would publish a document in the Federal Register announcing the effective date of the information collections and the new and/or modified sections of Parts 32 and 64 rules.

List of Subjects

47 CFR Part 32

Communications common carriers, Reporting and recordkeeping requirements, Telephone, Uniform System of Accounts.

47 CFR Part 64

Communications common carriers, Federal Communications Commission, Radio, Reporting and recordkeeping requirements, Telegraph, Telephone.

Federal Communications Commission.
Magalie Roman Salas,
Secretary.

[FR Doc. 00-25014 Filed 9-29-00; 8:45 am]

BILLING CODE 6712-01-P